SMALL BUSINESS ADMINISTRATION

[Disaster Declaration #15226 and #15227; NEBRASKA Disaster Number NE-00069]

Presidential Declaration Amendment of a Major Disaster for Public Assistance Only for the State of Nebraska

AGENCY: U.S. Small Business Administration.

ACTION: Amendment 1.

SUMMARY: This is an amendment of the Presidential declaration of a major disaster for Public Assistance Only for the State of NEBRASKA (FEMA-4325-DR), dated 08/01/2017.

Incident: Severe Storms, Tornadoes, and Straight-line Winds.

Incident Period: 06/12/2017 through 06/17/2017.

DATES: Issued on 08/01/2017.

Physical Loan Application Deadline Date: 10/02/2017.

Economic Injury (EIDL) Loan Application Deadline Date: 05/01/2018.

ADDRESSES: Submit completed loan applications to: U.S. Small Business Administration, Processing And Disbursement Center, 14925 Kingsport Road, Fort Worth, TX 76155.

FOR FURTHER INFORMATION CONTACT: A Escobar, Office of Disaster Assistance, U.S. Small Business Administration, 409 3rd Street SW., Suite 6050, Washington, DC 20416, (202) 205-6734.

SUPPLEMENTARY INFORMATION: The notice of the President's major disaster declaration for Private Non-Profit organizations in the State of NEBRASKA, dated 08/01/2017, is hereby amended to include the following areas as adversely affected by the disaster.

Primary Counties: Platte

All other information in the original declaration remains unchanged.

(Catalog of Federal Domestic Assistance Number 59008)

James E. Rivera,
Associate Administrator for Disaster Assistance.

[FR Doc. 2017-18130 Filed 8-25-17; 8:45 am]

BILLING CODE 8025-01-P